DEPARTMENT OF LABOR

Employment and Training Administration

[TA-W-56,065]

River Valley Contract Manufacturing, Inc., Menifee, AR; Dismissal of Application for Reconsideration

Pursuant to 29 CFR 90.18(C) an application for administrative reconsideration was filed with the Director of the Division of Trade Adjustment Assistance for workers at River Valley Contract Manufacturing, Inc., Menifee, Arkansas. The application contained no new substantial information which would bear importantly on the Department's determination. Therefore, dismissal of the application was issued.

TA-W-56,065; River Valley Contract Manufacturing, Inc., Menifee, Arkansas (February 2, 2005)

Signed at Washington, DC this 16th day of February 2005.
Linda G. Poole,
Acting Director, Division of Trade Adjustment Assistance.

[FR Doc. E5-986 Filed 3-8-05; 8:45 am]

BILLING CODE 4510-30-P